DEPARTMENT OF DEFENSE

Department of the Navy

[USN-2008-0017]

Privacy Act of 1974; System of Records

AGENCY: Department of the Navy, DoD.

ACTION: Notice to Amend a System of Records

SUMMARY: The Department of the Navy is amending a system of records notice in its existing inventory of record systems subject to the Privacy Act of 1974, (5 U.S.C. 552a), as amended.

DATES: This proposed action will be effective without further notice on May 1, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: March 26, 2008.
L.M. Bynum,
Alternate OSD Federal Register Liaison Officer, Department of Defense.

N01070-12

System name:

NCIS Administrative Files System (February 22, 1993, 58 FR 10702).

Changes:

* * * * *

System location:

Delete entry and replace with “Primary: Director, Naval Criminal Investigative Service, Washington Navy Yard, Building 111, 716 Sicard Street, SE., Washington Navy Yard, DC 20388-5380.

Decentralized Segments: Naval Criminal Investigative Service Field Offices (NCISFOs) retain duplicate copies of certain segments of the administrative files. Official mailing addresses are published in the Standard Navy Distribution List that is available at http://doni.daps.dla.mil/sndl.aspx.”

Categories of individuals covered by the system:

At end of entry, add “Persons communicating by correspondence with DON and NCIS.”

Categories of records in the system:

Delete para 6.

Add the following new paras: “Full name, Social Security Number (SSN), grade level, duty station, special qualifications, or language qualifications, date and place of birth.

Unsubstantiated reports to DON components from members of the public alleging imminent invasion, plots, and similar events of a delusional nature and assorted “crank” letters.

Unsolicited letters and other communications received by or referred to NCIS for analysis and inquiry when contents convey or can be interpreted to convey a possible threat to DON persons or property.”

Authority for maintenance of the system:

Delete entry and replace with “10 U.S.C. 5013, Secretary of the Navy and E.O. 9397 (SSN).”

Purpose(s):

Delete last para and replace with the following new paras: “The records in this system may be used by other DoD components requiring confirmation of security clearance levels and for statistical purposes.

Unsolicited letters and other communications received by or referred to NCIS for analysis are used to determine if a possible threat exists or might exist at a later date upon the receipt of additional correspondence. When a threat is determined possible, a formal investigative case is opened.”

* * * * *

Policies and practices for storing, retrieving, accessing, retaining, and disposing of records in the system:

Storage:

Delete entry and replace with “Automated, electronic media, and paper records.”

Retrievability:

Delete last para and replace with the following two paras: “For unsubstantiated reports to DON components from members of the public alleging imminent invasion, plots, and similar events of a delusional nature and assorted “crank” letters unsolicited suspicious by name.

For unsolicited letters and other communications received by or referred to NCIS for analysis, retrieved by name.”

* * * * *

Retention and disposal:

Delete last entry and replace with the following two paras: “Unsubstantiated reports to DON components from members of the public alleging imminent invasion, plots, and similar events of a delusional nature and assorted “crank” letters are deleted 1 year. Early destruction is authorized if determined no longer pertinent by annual review.

Unsolicited letters and other communications received by or referred to NCIS are deleted 50 years after last entry except paper copy of imaged correspondence which is destroyed upon verification that the record copy has been fully and accurately converted to electronic/optical images.”

System manager(s) and address:

Delete entry and replace with “Director, Naval Criminal Investigative Service, Washington Navy Yard, Building 111, 716 Sicard Street, SE., Washington, DC 20388-5380.”

Notification procedure:

Delete entry and replace with “Individuals seeking to determine whether this system of records contains information about themselves should address written inquiries to the Director, Naval Criminal Investigative Service, Washington Navy Yard, Building 111, Code 00LJF, 716 Sicard Street, SE., Washington, DC 20388-5380.

“Requests must contain the full name of the individual and at least one additional personal identifier such as date and place of birth, or Social Security Number (SSN). Persons submitting written requests must properly establish their identity to the satisfaction of the Naval Criminal Investigative Service. This can be accomplished by providing an unsworn declaration that states “I declare under perjury or penalty under the laws of the United States of America that the foregoing is true and correct.”

Attorneys or other persons acting on behalf of an individual must provide written authorization from that individual for their representative to act on their behalf.”

Record access procedures:

Delete entry and replace with “Individuals seeking access to records about themselves contained in this system of records should address written inquiries to the Director, Naval Criminal Investigative Service, Washington Navy Yard, Building 111, Code 00JF, 716 Sicard Street, SE., Washington, DC 20388-5380.

Requests must contain the full name of the individual and at least one additional personal identifier such as date and place of birth and Social Security Number. Persons submitting written requests must properly establish their identity to the satisfaction of the Naval Criminal Investigative Service. This can be accomplished by providing an unsworn declaration that states “I declare under perjury or penalty under the laws of the United States of America that the foregoing is true and correct.”

Attorneys or other persons acting on behalf of an individual must provide written authorization from that individual for their representative to act on their behalf.”

Record source categories:

Delete last para and replace with “Information for the unsolicited letters database is obtained from the individual. Also contains copies of analytical and other information and reports created during course of NCIS' inquiry.”

* * * * *

N01070-12

System name:

NCIS Administrative Files System.

System location:

Primary: Director, Naval Criminal Investigative Service, Washington Navy Yard, Building 111, 716 Sicard Street, SE., Washington Navy Yard, DC 20388-5380.

Decentralized Segments: Naval Criminal Investigative Service Field Offices (NCISFOs) retain duplicate copies of certain segments of the administrative files. Official mailing addresses are published in the Standard Navy Distribution List that is available at http://doni.daps.dla.mil/sndl.aspx.

Categories of individuals covered by the system:

Past and present civilian, military, and foreign national personnel assigned world-wide to the Naval Criminal Investigative Service. Persons communicating by correspondence with DON and NCIS.

Categories of records in the system:

Full name, Social Security Number (SSN), grade level, duty station, special qualifications, or language qualifications, date and place of birth.

Personnel and Resource Information System—contains personnel management information/statistical information on NCIS personnel.

Special Agent Career Development Files—contains correspondence unique to the NCIS Special Agent, including annual physical examinations, assignment preferences, and special qualifications, which has a bearing on world-wide assignability, promotion, and general career assessment.

Weapons and Equipment Files—identifies credential numbers, badges, PSP pins, and weapons assigned to authorized NCIS personnel.

Personnel Security Clearance File—identifies the classified material access level and date of last security clearance for assigned civilian and military personnel of NCIS.

Personnel Utilization Data File—provides statistical information regarding the manner by which available NCIS man-hours are expended in the execution of its assigned investigative and counterintelligence mission. The file is formed by the submission (monthly) of individual manhour diaries. All assigned personnel input to this system; their man-hours are categorized by function.

Unsubstantiated reports to DON components from members of the public alleging imminent invasion, plots, and similar events of a delusional nature and assorted “crank” letters.

Unsolicited letters and other communications received by or referred to NCIS for analysis and inquiry when contents convey or can be interpreted to convey a possible threat to DON persons or property.

Authority for maintenance of the system:

10 U.S.C. 5013, Secretary of the Navy and E.O. 9397 (SSN).

Purpose(s):

The Personnel and Resource Information System is used to prepare all personnel documents and personnel statistical studies. It provides such information as the average grade, the total number and composition of personnel at each NCIS component, and the past assignments of personnel. It is used on a daily basis by personnel in the formation and execution of staffing actions for the various NCIS components, information verification of employee's tenure, and the compilation of necessary statistical studies.

Special Agent Career Development Files are used for in-house agency decisions regarding reassignment, promotion, career training, and long-range development. They form in-house agency repository for both adverse and favorable documents regarding Special Agents. The files have a long-range function, that of forming the basis for law enforcement retirement service certification. Though part of the file is duplicated in the official file maintained by the Civilian Personnel Office, the Special Agent Career Development File is considered privileged information and its contents are not released outside NCIS. Within NCIS, the files are maintained and controlled exclusively within the Career Services Division, NCIS, and by assigned personnel of that Division. The files are released for review only to senior management personnel of NCIS.

Weapons and Equipment Files are used to identify and inventory credentials, weapons, badges, and handcuffs issued to authorized NCIS personnel.

Personnel Security Clearance Files are used to informally verify and authenticate security clearances issued to NCIS personnel. The file has a daily working purpose of acting as a check sheet for the updating of security clearances. It is used by the Commander, NCIS to certify the access level of certain assigned NCIS personnel to other Navy commands as well as civilian contractors. Personnel Utilization Data File is used to make analyses which modify the staffing levels at various NCIS components based on the actual work level. It further provides a tool to NCIS management to gauge the efficiency of all components by comparing their workload with the amount of man-hours available.

The records in this system may be used by other DoD components requiring confirmation of security clearance levels and for statistical purposes.

Unsolicited letters and other communications received by or referred to NCIS for analysis are used to determine if a possible threat exists or might exist at a later date upon the receipt of additional correspondence. When a threat is determined possible, a formal investigative case is opened.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To law enforcement activities conducting criminal or suitability investigations.

To the Office of Personnel Management when making personnel determinations, e.g., awards or disciplinary actions.

To credit companies in response to credit queries.

To personal physicians regarding medical records.

The `Blanket Routine Uses' that appear at the beginning of the Navy's compilation of systems notices also apply to this system.

Policies and practices for storing, retrieving, accessing, retaining, and disposing of records in the system:

Storage:

Automated, electronic media, and paper records.

Retrievability:

For the Special Agent Career Development File—name only.

For the Weapons and Equipment File—by name or by item number (i.e., badge, credential, weapon, handcuff serial number).

For the Personnel and Resource Information System—by name and Social Security Number or by individual data characteristic, such as GS-grade level, duty-station, special qualifications, or language qualifications.

For the Personnel Utilization Data File—normally accessed and retrieved by location and functional category of employment (i.e., Special Agent, clerical, etc.). The capability exists, however, to retrieve by Social Security Number.

The Personnel Security Classification File, which is a subordinate file to the Personnel and Resource Information System, is accessed by name and Social Security Number.

For unsubstantiated reports to DON components from members of the public alleging imminent invasion, plots, and similar events of a delusional nature and assorted “crank” letters unsolicited suspicious by name.

For unsolicited letters and other communications received by or referred to NCIS for analysis, retrieved by name.

Safeguards:

Files are protected by limited controlled access, safes, locked cabinets, and locked doors. Visitor control and security computer software measures (where applicable) are utilized.

Retention and disposal:

Personnel indexed in the Personnel and Resource Information System and the Personnel Security Clearance Files are deleted from the magnetic tape data storage upon termination of employment. Residual paper records are retained from two to five years and then destroyed.

Personnel indexed in the Weapons and Equipment Files are deleted as assigned equipment is accounted for or returned. Residual paper printouts are destroyed at least semi-annually. The Special Agent Career Development Files are semi-permanent and are retained, at least in essential skeletal format, indefinitely.

Unsubstantiated reports to DON components from members of the public alleging imminent invasion, plots, and similar events of a delusional nature and assorted “crank” letters are deleted after 1 year. Early destruction is authorized if determined no longer pertinent by annual review.

Unsolicited letters and other communications received by or referred to NCIS are deleted 50 years after last entry except paper copy of imaged correspondence which is destroyed upon verification that the record copy has been fully and accurately converted to electronic/optical images.

System manager(s) and address:

Director, Naval Criminal Investigative Service, Washington Navy Yard, Building 111, 716 Sicard Street, SE., Washington, DC 20388-5380.

Notification procedure:

Individuals seeking to determine whether this system of records contains information about themselves should address written inquiries to the Director, Naval Criminal Investigative Service, Washington Navy Yard, Building 111, Code 00LJF, 716 Sicard Street, SE., Washington, DC 20388-5380.

Requests must contain the full name of the individual and at least one additional personal identifier such as date and place of birth, or Social Security Number (SSN).

Persons submitting written requests must properly establish their identity to the satisfaction of the Naval Criminal Investigative Service. This can be accomplished by providing an unsworn declaration that states “I declare under perjury or penalty under the laws of the United States of America that the foregoing is true and correct.”

Attorneys or other persons acting on behalf of an individual must provide written authorization from that individual for their representative to act on their behalf.

Record access procedures:

Individuals seeking access to records about themselves contained in this system of records should address written inquiries to the Director, Naval Criminal Investigative Service, Washington Navy Yard, Building 111, Code 00JF, 716 Sicard Street, SE., Washington, DC 20388-5380.

Requests must contain the full name of the individual and at least one additional personal identifier such as date and place of birth and Social Security Number. Persons submitting written requests must properly establish their identity to the satisfaction of the Naval Criminal Investigative Service. This can be accomplished by providing an unsworn declaration that states “I declare under perjury or penalty under the laws of the United States of America that the foregoing is true and correct.”

Attorneys or other persons acting on behalf of an individual must provide written authorization from that individual for their representative to act on their behalf.

Contesting record procedures:

The Navy's rules for accessing records, and for contesting contents and appealing initial agency determinations are published in Secretary of the Navy Instruction 5211.5; 32 CFR Part 701; or may be obtained from the system manager.

Record source categories:

Information for the Personnel and Resource Information System and the Personnel Utilization Data System is obtained from the individual employee, who is the prime source of information both for initial access to the files as well as for the periodic update.

Information for the Personnel Security Clearance File information is obtained from the Personnel and Resource Information System.

The information for the Weapons and Equipment Files is obtained from personnel charged with the issuance of various items inventoried therein (with verification by the personnel to whom the items are issued.)

Information for the Special Agent Career Development File is obtained from the individuals' supervisors, from various naval commands, and other federal and state agencies with whom the special agent has had professional contact and from the individual. Also, this file contains copies of each physical examination required annually of assigned civilian special agents.

Information for the unsolicited letters database is obtained from the individual. Also contains copies of analytical and other information and reports created during course of NCIS' inquiry.

Exemptions claimed for the system:

None.

[FR Doc. E8-6632 Filed 3-31-08; 8:45 am]

BILLING CODE 5001-06-P